DEPARTMENT OF COMMERCE

National Oceanic and Atmospheric Administration

50 CFR Part 679

[Docket No. 0911161406-91407-01]

RIN 0648-AY37

Groundfish Fisheries of the Exclusive Economic Zone Off Alaska; Individual Fishing Quota Program; Western Alaska Community Development Quota Program; Recordkeeping and Reporting; Correction

AGENCY: National Marine Fisheries Service (NMFS), National Oceanic and Atmospheric Administration (NOAA), Commerce.

ACTION: Final rule, correction.

SUMMARY: This action corrects column headings of a regulatory table; provides replacements for outdated text; reinstates a paragraph which describes the Chiniak Gully Research Area; corrects footnotes and other errors in two tables; and corrects two maps. These errors should be corrected immediately to eliminate potential confusion by the regulated public. This action is intended to promote the goals and objectives of the Magnuson-Stevens Fishery Conservation and Management Act and other applicable law.

DATES: Effective November 30, 2009.

FOR FURTHER INFORMATION CONTACT: Patsy A. Bearden, 907-586-7228.

SUPPLEMENTARY INFORMATION:

Background

NMFS manages the U.S. groundfish fisheries of the exclusive economic zone off Alaska under the Fishery Management Plan for Groundfish of the Gulf of Alaska and the Fishery Management Plan for Groundfish of the Bering Sea and Aleutian Islands Management Area. With Federal oversight, the State of Alaska (State) manages the commercial king crab and Tanner crab fisheries under the Fishery Management Plan for Bering Sea/Aleutian Islands King and Tanner Crabs (collectively, FMPs). The FMPs were prepared by the North Pacific Fishery Management Council and approved by the Secretary of Commerce under authority of the Magnuson-Stevens Fishery Conservation and Management Act, 16 U.S.C. 1801 et seq. The FMPs are implemented by regulations at 50 CFR parts 679 and 680. General provisions governing fishing by U.S. vessels in accordance with the FMPs appear at subpart H of 50 CFR part 600.

Management of the Pacific halibut fisheries in and off Alaska is governed by an international agreement, the “Convention Between the United States of America and Canada for the Preservation of the Halibut Fishery of the Northern Pacific Ocean and Bering Sea,” which was signed at Ottawa, Canada, on March 2, 1953, and was amended by the “Protocol Amending the Convention,” signed at Washington, DC, March 29, 1979. The Convention is implemented in the United States by the Northern Pacific Halibut Act of 1982 (Halibut Act). General provisions governing fishing by U.S. vessels in accordance with the FMPs appear at subpart H of 50 CFR part 600.

Need for Corrections

This action corrects regulations recently promulgated in two final rules: a rule published on May 19, 2008 (73 FR 28733) and a rule published on December 15, 2008 (73 FR 76136). The revisions are needed to correct inadvertent errors.

Table 13 to part 679 summarizes the use of forms for shipping, transporting, or transferring fish or fish product. In the final rule published in the Federal Register on May 19, 2008 (73 FR 28733), the outdated term “IFQ card” was replaced with “IFQ hired master permit,” because the IFQ card no longer exists. NMFS intended to change every occurrence of this phrase but missed the occurrence in Table 13 to part 679; this rule makes this correction. NMFS makes four additional revisions to Table 13. First, the cross-references to sections within the 679 regulations are moved from the column headings, indicated with a footnote number, and listed at the bottom of the table to make the table easier to read. Second, some of the cross-references are corrected as follows: the cross-reference in the Dockside Sales Receipt column heading of Table 13 is corrected to read “§ 679.5(g)(2)(iv)”, as the paragraph cited no longer exists. The cross-reference in the Landing Receipt column heading is corrected to read “§ 679.5(e)(8)(vii)” because the December 15, 2008, final rule (73 FR 76136) reorganized the paragraphs describing retention of landing receipts. Third, a column is added to list the buying station report, which is a form used by a buying station or tender vessel and described at § 679.5(d). The addition of this form completes the list of the different types of product transfer forms in the part 679 regulations. Finally, Table 13 is not cross-referenced in § 679.5. Accordingly, to establish references to Table 13, this rule adds introductory paragraph (d); a sentence to the end of introductory paragraph (g)(1); introductory paragraph (k); introductory paragraph (l)(3); and introductory paragraph (l)(4). None of the revisions to Table 13 and associated regulatory text add new requirements or change existing requirements.

Section 679.5(c)(1)(vi)(B) is a regulatory table that describes the distribution of logsheets from groundfish logbooks. This rule revises column headings describing logbooks used by catcher vessels and catcher/processors that use longline or pot gear. Operators of catcher vessels and catcher/processors using longline gear use the same logbook as operators of catcher vessels and catcher/processors using pot gear. The column headings incorrectly do not include “pot gear;” this rule will replace “CV lgl” and “CP lgl” with “CV lgl/pot” and “CP lgl/pot,” respectively.

The December 15, 2008, final rule added a definition for “non-individual entity” to standardize the terms used to describe an entity other than an individual. NMFS's intention was to replace the term “other entity” with the new term “other non-individual entity” in all places in part 679 where the term “other entity” does not refer to an individual. Further, the intention was to add “other non-individual entity” in paragraphs that referred to entities of a similar nature, e.g., corporations, associations, and partnerships. Section 679.42(j)(7) is corrected by revising the one remaining reference to “corporation or a partnership” to read “corporation, partnership, association, or other non-individual entity.” This correction makes consistent use of the term “non-individual entity” throughout the regulatory text.

The final rule also removed and reserved § 679.22(b)(6), which describes the Chiniak Gully Research Area; an area periodically closed to fishing. NMFS believed the closure had expired and so removed the paragraph. However, NMFS overlooked that it had published a June 1, 2006 (71 FR 31105) final rule that revised the same paragraph and instituted another closure effective through 2010. This final rule re-establishes this paragraph and the effective period of the closure through December 31, 2010.

The December 15, 2008, final rule removed the term, “weekly production report” or “WPR” from 50 CFR part 679 and replaced it with the term “production report” in eLandings. It was NMFS's intention to replace all references to the WPR in the final rule; however, some references were missed and not replaced. This final rule corrects the omissions.

Table 10 to part 679 lists percentages used for calculating maximum retainable amounts of species closed to directed fishing relative to basis species in the Gulf of Alaska. A spelling error is corrected in footnote 4 of Table 10 by removing S. polyspinous and replacing it with S. polyspinis.

The Nearshore Bristol Bay Trawl Closure Area shown in Figure 12 to part 679 has coordinates that actually occur on land; the Legend provides the correct coordinates. The closure area is redrawn to correct the previous map which showed the closure area parallel to the coastline. The closure area is redrawn to exclude Alaska State territorial waters and waters of the protection zone around Round Island. An additional note is added to the Legend to explain these exclusions.

The map in Figure 19 to part 679 is corrected to match the base map of the Gulf of Alaska reporting areas in Figure 3, which was revised in the December 15, 2008, final rule. The map is redrawn to correct the graphic western boundary of reporting area 610 which ends at 170 degrees, not 171 degrees as shown on the illustration. Figure 19 has this same base map, but was not changed in the final rule. This final rule corrects the boundary in Figure 19.

This rule also corrects other cross-reference errors as indicated in the Locate and Remove table.

Classification

Pursuant to 5 U.S.C. 553(b)(B), the Assistant Administrator of Fisheries (AA) finds good cause to waive prior notice and opportunity for public comment otherwise required by the section. The corrections made by this rule do not make any substantive changes in the rights or obligations of fishermen managed under the groundfish regulations implemented in the May 10, 2008, final rule and the December 15, 2008, final rule.

No aspect of this action is controversial, and no change in operating practices in the fishery is required. It was not NMFS's intent to impose incorrect regulations or to remove regulations that should have been retained. These errors should be corrected immediately to eliminate potential confusion by the regulated public. If left unrevised, these measures create ambiguous guidance, thus are likely to mislead fisheries participants and may weaken regulatory enforcement efforts.

For the same reasons, the AA finds good cause under 5 U.S.C. 553(d)(3) to waive the 30-day delay in effective date.

Because prior notice and opportunity for public comment are not required for this rule by 5 U.S.C. 553, or any other law, the analytical requirements of the Regulatory Flexibility Act, 5 U.S.C. 601 et seq., do not apply.

This final rule has been determined to be not significant for purposes of Executive Order 12866.

Corrections

Accordingly, the final rule published on December 15, 2008, at 73 FR 76136, and effective January 14, 2009; and the final rule published May 19, 2008, at 73 FR 28733 and effective June 18, 2008, are corrected as follows:

List of Subjects in 50 CFR Part 679

Alaska, Fisheries, Reporting and recordkeeping requirements.

Dated: November 23, 2009.
Samuel D. Rauch III,
Deputy Assistant Administrator for Regulatory Programs, National Marine Fisheries Service.

Accordingly, 50 CFR part 679 is corrected by making the following correcting amendments:

PART 679—FISHERIES OF THE EXCLUSIVE ECONOMIC ZONE OFF ALASKA

1. The authority citation for part 679 continues to read as follows:

Authority: 16 U.S.C. 773 et seq.; 1540(f); 1801 et seq.; 1851 note; 3631 et seq.

2. In § 679.5,

a. Revise the table heading in paragraph (c)(1)(vi)(B);

b. Add introductory paragraph (d); a sentence to the end of introductory paragraph (g)(1); introductory paragraph (k); introductory paragraph (l)(3); and introductory paragraph (l)(4). The revisions and additions read as follows:

§ 679.5 Recordkeeping and reporting (R&R).

* * * * *

(c) * * *

(1) * * *

(vi) * * *

(B) * * *

Logsheet Distribution and Submittal
If logsheet color is . . . | Logsheets found in these logbooks: CV lgl/pot | Logsheets found in these logbooks: CV trw | Logsheets found in these logbooks: CP lgl/pot | Logsheets found in these logbooks: CP trw | Logsheets found in these logbooks: MS | Submit to . . . | Time limit
* * * * * * *

* * * * *

(d) Buying station report (BSR). For a comparison of forms used for shipping, transporting, or transferring fish or fish product, see Table 13 to this part.

* * * * *

(g) * * *

(1) * * * For a comparison of forms used for shipping, transporting, or transferring fish or fish product, see Table 13 to this part.

* * * * *

(k) U.S. Vessel activity report (VAR). For a comparison of forms used for shipping, transporting, or transferring fish or fish product, see Table 13 to this part.

* * * * *

(l) * * *

(3) Transshipment authorization. For a comparison of forms used for shipping, transporting, or transferring fish or fish product, see Table 13 to this part.

* * * * *

(4) IFQ Departure report. For a comparison of forms used for shipping, transporting, or transferring fish or fish product, see Table 13 to this part.

* * * * *

3. In § 679.22, add paragraph (b)(6) to read as follows:

§ 679.22 Closures.

* * * * *

(b) * * *

(6) Chiniak Gully Research Area (Applicable through December 31, 2010)—(i) Description of Chiniak Gully Research Area. The Chiniak Gully Research Area, as shown in Figure 22 to this part, is defined as the waters bounded by straight lines connecting the coordinates in the order listed:

57°48.60 N lat., 152°22.20 W long.;

57°48.60 N lat., 151°51.00 W long.;

57°13.20 N lat., 150°38.40 W long.;

56°58.80 N lat., 151°16.20 W long.;

57°37.20 N lat., 152°09.60 W long.; and hence counterclockwise along the shoreline of Kodiak Island to 57°48.60 N lat., 152°22.20 W long.

(ii) Closure. (A) No vessel named on a Federal fisheries permit issued pursuant to § 679.4(b) shall deploy trawl gear for purposes of either fishing, or of testing gear under § 679.24(d)(2), within the Chiniak Gully Research Area at any time from August 1 through September 20.

(B) If the Regional Administrator makes a determination that the relevant research activities have been completed for a particular year or will not be conducted that year, the Regional Administrator shall publish notification in the Federal Register rescinding the Chiniak Gully Research Area trawl closure, described in paragraph (b)(6)(i) of this section, for that year.

* * * * *

§§ 679.5, 679.20, 679.27, 679.30, and 679.42 [Amended]

4. At each of the locations shown in the Location column, remove the phrase indicated in the “Remove” column and replace it with the phrase indicated in the “Add” column for the number of times indicated in the “Frequency” column.

Location | Remove | Add | Frequency
§ 679.5(h)(2)(ii)(C) | paragraph (h)(2)(i) | paragraph (h)(2)(ii) | 1
§ 679.5(s)(4) heading | Weekly production report (WPR) | Production report | 1
§ 679.5(s)(4) | WPR | production report | 1
§ 679.5(s)(4) | paragraph (i) | paragraph (e)(10) | 1
§ 679.20(g)(2)(iii) | products in the DCPL required under § 679.5(a)(7)(v)(C) | products in eLandings required under § 679.5(e)(9)(i)(D) and § 679.5(e)(10)(iii)(H) (see also Table 1c to this part) | 1
§ 679.27(j)(3) | weekly production report | production report | 1
§ 679.27(j)(3) | § 679.5(i) | § 679.5(e) | 1
§ 679.27(j)(5)(ii) | § 679.5(a)(7)(iv)(C) | § 679.5 | 1
§ 679.27(j)(5)(iii) | § 679.28(d)(7)(ii) | § 679.28(d)(7)(i) | 1
§ 679.27(j)(6) | 679.5(a)(7)(iv)(C) and paragraph (j)(5) | § 679.5 | 1
§ 679.30(e)(1) | § 679.5(n)(3) | § 679.5(n)(1) | 1
§ 679.42(j)(7) | corporation or a partnership | corporation, partnership, association, or other non-individual entity | 1

5. Figure 12 to part 679 is revised to read as follows:

BILLING CODE 3510-22-P

6. Figure 19 to part 679 is revised to read as follows:

7. Table 10 to part 679 is revised to read as follows:

BILLING CODE 3510-22-C

8. Table 13 to part 679 is revised to read as follows:

Table 13 to Part 67—Transfer Form Summary
If participant type is * * * | And has * * * Fish product onboard | And is involved in this activity | VAR ¹ | PTR ² | Trans-ship ³ | Departure report ⁴ | Dockside sales receipt ⁵ | Landing receipt ⁶ | BSR ⁷
Catcher vessel greater than 60 ft LOA, mothership or catcher/processor | Only non-IFQ groundfish | Vessel leaving or entering Alaska | X |  |  |  |  |  |
Catcher vessel greater than 60 ft LOA, mothership or catcher/processor | Only IFQ sablefish, IFQ halibut, CDQ halibut, or CR crab | Vessel leaving Alaska |  |  |  | X |  |  |
Catcher vessel greater than 60 ft LOA, mothership or catcher/processor | Combination of IFQ sablefish, IFQ halibut, CDQ halibut, or CR crab and non-IFQ groundfish | Vessel leaving Alaska | X |  |  | X |  |  |
Mothership, catcher/processor, shoreside processor, or SFP | Non-IFQ groundfish | Shipment of groundfish product |  | X |  |  |  |  |
Mothership, catcher/processor, shoreside processor, or SFP | Donated PSC | Shipment of donated PSC |  | X |  |  |  |  |
Buying station or tender vessel | Groundfish | Receive or deliver groundfish in association with a shoreside processor, SFP, or mothership |  |  |  |  |  |  | X
Registered Buyer | IFQ sablefish, IFQ halibut, or CDQ halibut | Transfer of product |  | X |  |  |  |  |
A person holding a valid IFQ permit, IFQ hired master permit, or Registered Buyer permit | IFQ sablefish, IFQ halibut, or CDQ halibut | Transfer of product |  |  |  |  | XXX |  |
Registered Buyer | IFQ sablefish, IFQ halibut, or CDQ halibut | Transfer from landing site to Registered Buyer's processing facility |  |  |  |  |  | XX |
Vessel operator | Processed IFQ sablefish, IFQ halibut, CDQ halibut, or CR crab | Transshipment between vessels |  |  | XXXX |  |  |  |
Registered Crab Receiver | CR crab | Transfer of product |  | X |  |  |  |  |
Registered Crab Receiver | CR crab | Transfer from landing site to RCR's processing facility |  |  |  |  |  | XX |
¹ A vessel activity report (VAR) is described at § 679.5(k).
² A product transfer report (PTR) is described at § 679.5(g).
³ An IFQ transshipment authorization is described at § 679.5(l)(3).
⁴ An IFQ departure report is described at § 679.5(l)(4).
⁵ An IFQ dockside sales receipt is described at § 679.5(g)(2)(iv).
⁶ A landing receipt is described at § 679.5(e)(8)(vii).
⁷ A buying station report (BSR) is described at § 679.5(d).
X indicates under what circumstances each report is submitted.
XX indicates that the document must accompany the transfer of IFQ species from landing site to processor.
XXX indicates receipt must be issued to each receiver in a dockside sale.
XXXX indicates authorization must be obtained 24 hours in advance.

[FR Doc. E9-28545 Filed 11-27-09; 8:45 am]

BILLING CODE 3510-22-P